DEPARTMENT OF COMMERCE

Foreign-Trade Zones Board

[Docket 51-2004]

Foreign-Trade Zone 167—Brown County, WS, Application for Expansion; Correction

The Federal Register notice (69 FR 67699-67700, 11/19/04) describing the expansion of Foreign-Trade Zone 167 in Brown County and Winnebago County, Wisconsin, to include Proposed Site 2A should read: Proposed Site 2A (289 acres)—Oshkosh Southwest Industrial Park located west of Oakwood Road, north of State Highway 91, east of Clairville Road and south of 20th Avenue in the City of Oshkosh and Town of Algoma (listed as Parcel C in the application). The application otherwise remains unchanged.

Dated: November 19, 2004.
Dennis Puccinelli,
Executive Secretary.

[FR Doc. 04-26564 Filed 12-1-04; 8:45 am]

BILLING CODE 3510-DS-P